DEPARTMENT OF COMMERCE

International Trade Administration

[A-570-928]

Uncovered Innerspring Units From the People's Republic of China: Final Results of Antidumping Duty Administrative Review; 2013-2014

AGENCY: Enforcement and Compliance, International Trade Administration, Department of Commerce.

SUMMARY: On February 23, 2015, the Department of Commerce (“the Department”) published in the Federal Register the preliminary results of the administrative review of the antidumping duty order on uncovered innerspring units (“innersprings”) from the People's Republic of China (“PRC”) covering the period February 1, 2013, through January 31, 2014.¹ The Department gave interested parties an opportunity to comment on the Preliminary Results. Based on our analysis of these comments, our final results remain unchanged from the Preliminary Results.

¹ See Uncovered Innerspring Units from the People's Republic of China: Preliminary Results of Antidumping Duty Administrative Review; 2013-2014, 80 FR 9435 (February 23, 2015) (“Preliminary Results”).

DATES: Effective Date: September 2, 2015.

FOR FURTHER INFORMATION CONTACT: Kenneth Hawkins, AD/CVD Operations, Office V, Enforcement and Compliance, International Trade Administration, U.S. Department of Commerce, 14th Street and Constitution Avenue NW., Washington, DC 20230; telephone: (202) 482-6491.

SUPPLEMENTARY INFORMATION:

Background

This review covers two exporters of subject merchandise: Comfort Coil Technology Sdn Bhd (“Comfort Coil”) and Creative Furniture & Bedding Manufacturing (“Creative Furniture”). On February 23, 2015, the Department published the Preliminary Results in the Federal Register, and provided interested parties an opportunity to comment.² On March 25, 2015, the Department received a case brief from Leggett and Platt, Inc. (“Petitioner”).³ No other interested party filed case or rebuttal briefs.

² Id.

³ See Letter from Petitioners, to the Department, regarding Fifth Administrative Review of the Antidumping Duty Order on Uncovered Innerspring Units from the People's Republic of China: Case Brief, dated March 25, 2015 (“Petitioner's Case Brief”).

Scope of the Order

The merchandise subject to the order is uncovered innerspring units.⁴ The product is currently classified under subheading 9404.29.9010 and has also been classified under subheadings 9404.10.0000, 7326.20.0070, 7320.20.5010, or 7320.90.5010, of the Harmonized Tariff Schedule of the United States (“HTSUS”). The HTSUS subheadings are provided for convenience and customs purposes only; the written product description of the scope of the order is dispositive.

⁴ See Memorandum to Paul Piquado, Assistant Secretary for Enforcement and Compliance, from Gary Taverman, Associate Deputy Assistant Secretary for Antidumping and Countervailing Duty Operations, entitled “Uncovered Innerspring Units from the People's Republic of China: Issues and Decision Memorandum for the Final Results of the 2013-2014 Administrative Review,” which is dated concurrently with and hereby adopted by this notice (“Issues and Decision Memorandum”) for a complete description of the Scope of the Order.

Analysis of Comments Received

All issues raised in Petitioner's case brief are addressed in the Issues and Decision Memorandum, which is incorporated herein by reference. A list of the issues which parties raised, and to which we respond in the Issues and Decision Memorandum, is attached to this notice as an Appendix. The Issues and Decision Memorandum is a public document and is on file electronically via Enforcement and Compliance's Antidumping and Countervailing Duty Centralized Electronic Service System (“ACCESS”). ACCESS is available to registered users at http://access.trade.gov, and it is available to all parties in the Central Records Unit, room B8024 of the main Department of Commerce building. In addition, a complete version of the Issues and Decision Memorandum can be accessed directly on the internet at http://enforcement.trade.gov/frn/index.html. The signed Issues and Decision Memorandum and the electronic versions of the Issues Decision Memorandum are identical in content.

Use of Facts Available and Adverse Facts Available

In the Preliminary Results, because Creative Furniture failed to respond to the Department's questionnaire, we determined Creative Furniture's margin on the basis of facts available, pursuant to section 776(a)(1) & (2)(A), (B), and (C) of the Tariff Act of 1930 (“the Act”). We also applied an adverse inference in selecting from among the facts available, pursuant to section 776(b) of the Act, because we found that Creative Furniture failed to cooperate to the best of its ability in providing the requested information.⁵

⁵ See Preliminary Results, and accompanying Preliminary Decision Memorandum at 5-6.

No parties commented on this specific determination or on the margin assigned to Creative Furniture in the Preliminary Results. Accordingly, we are continuing to assign to Creative Furniture a dumping margin of 234.51 percent, based on total adverse facts available. Consistent with section 502 of the Trade Preferences Extension Act of 2015, Public Law 114-27, we are no longer corroborating the rate assigned to Creative Furniture for purposes of these final results.⁶

⁶ See Issues and Decision Memorandum for further discussion of this issue.

Final Determination of No Shipments

In the Preliminary Results, the Department preliminarily determined that Comfort Coil did not have any reviewable transactions of subject merchandise during the POR.⁷ We stated, consistent with the Department's practice in nonmarket economy (“NME”) cases, that we would not rescind the review, but rather complete the review with respect to Comfort Coil and issue appropriate instructions to U.S. Customs and Border Protection (“CBP”) based on the final results of the review.⁸ We did not receive any comments regarding Comfort Coil. Therefore, we continue to determine that Comfort Coil had no reviewable transactions of subject merchandise during the POR. Consistent with our “automatic assessment” clarification, the Department will issue appropriate instructions to CBP based on our final results.⁹

⁷ See Preliminary Results and accompanying Preliminary Decision Memorandum at 4.

⁸ Id.

⁹ See Non-Market Economy Antidumping Proceedings; Assessment of Antidumping Duties, 76 FR 65694 (October 24, 2011) (“Assessment Practice Refinement”).

Final Results of Review

Creative Furniture's weighted-average dumping margin for the period February 1, 2013, through January 31, 2014, is as follows:

Exporter | Weighted-average dumping margin (percent)
Creative Furniture & Bedding Manufacturing¹⁰ | 234.51

Assessment

Pursuant to section 751(a)(2)(A) of the Act and 19 CFR 351.212(b), the Department will determine, and U.S. Customs and Border Protection (“CBP”) shall assess, antidumping duties on all appropriate entries. The Department intends to issue assessment instructions to CBP 15 days after the date of publication of the final results of review in the Federal Register. Consistent with the Department's assessment practice in NME cases, for entries that were not reported in the U.S. sales databases submitted by companies individually examined during this review, the Department will instruct CBP to liquidate such entries at the PRC-wide rate.¹¹ In addition, if the Department determines that an exporter under review had no shipments of subject merchandise, any suspended entries that entered under the exporter's case number (i.e., at that exporter's rate) will be liquidated at the PRC-wide rate.¹²

¹⁰ Because Creative Furniture is located in Malaysia, we are treating them as a third-country reseller. Accordingly, this rate only applies to Creative Furniture's exports of PRC-origin innersprings.

¹¹ See Assessment Practice Refinement.

¹² Id.

For Creative Furniture, the Department will instruct CBP to assess antidumping duties on the company's entries of subject merchandise (i.e., PRC-origin innersprings) at the rate of 234.51 percent.

Cash Deposit Requirements

The following cash deposit requirements will be effective upon publication of the final results of this administrative review for all shipments of the subject merchandise from the PRC entered, or withdrawn from warehouse, for consumption on or after the publication date, as provided for by section 751(a)(2)(C) of the Act: (1) for the exporter listed above, the cash deposit rate will be 234.51 percent for their entries of subject merchandise (i.e., PRC-origin innersprings); (2) for previously investigated or reviewed PRC and non-PRC exporters not listed above that have a separate rate, the cash deposit rate will continue to be the exporter-specific rate published for the most recently completed segment of this proceeding in which the exporter was reviewed; (3) for all PRC exporters of subject merchandise which have not been found to be entitled to a separate rate, the cash deposit rate will be that established for the PRC-wide entity of 234.51 percent; and (4) for all non-PRC exporters of subject merchandise which have not received their own rate, the cash deposit rate will be the rate applicable to the PRC exporter that supplied that non-PRC exporter with the subject merchandise. The deposit requirements, when imposed, shall remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

Administrative Protective Orders

In accordance with 19 CFR 351.305(a)(3), this notice also serves as a final reminder to parties subject to administrative protective order (“APO”) of their responsibility concerning the return or destruction of proprietary information disclosed under APO, which continues to govern business proprietary information in this segment of the proceeding. Timely written notification of the return or destruction of APO materials, or conversion to judicial protective order, is hereby requested. Failure to comply with the regulations and terms of an APO is a violation which is subject to sanction.

Notification to Interested Parties

We are issuing and publishing this administrative review and notice in accordance with sections 751(a)(1) and 777(i) of the Act.

Dated: August 24, 2015.
Paul Piquado,
Assistant Secretary for Enforcement and Compliance.

Appendix

List of Topics Discussed in the Final Decision Memorandum

1. Summary

2. Background

3. Scope of the Order

4. Discussion of the Issue

5. Recommendation

[FR Doc. 2015-21775 Filed 9-1-15; 8:45 am]

BILLING CODE 3510-DS-P